DEPARTMENT OF ENERGY

Federal Energy Regulatory Commission

Combined Notice of Filings #1

Take notice that the Commission received the following electric corporate filings:

Docket Numbers: EC17-35-000.

Applicants: Calpine Energy Services Holdco LLC, North American Power Business, LLC, North American Power and Gas, LLC.

Description: Joint Application of Calpine Energy Services Holdco LLC, et al. for Approval Under Section 203 of the Federal Power Act and Request for Expedited Action.

Filed Date: 11/17/16.

Accession Number: 20161117-5201.

Comments Due: 5 p.m. ET 12/8/16.

Take notice that the Commission received the following exempt wholesale generator filings:

Docket Numbers: EG17-30-000.

Applicants: Niles Valley Energy LLC.

Description: Notice of Self-Certification of Exempt Wholesale Generator Status for Niles Valley Energy LLC.

Filed Date: 11/16/16.

Accession Number: 20161116-5138.

Comments Due: 5 p.m. ET 12/7/16.

Docket Numbers: EG17-31-000.

Applicants: IMG Midstream LLC.

Description: Self-Certification of EWG of Wolf Run Energy LLC.

Filed Date: 11/16/16.

Accession Number: 20161116-5139.

Comments Due: 5 p.m. ET 12/7/16.

Docket Numbers: EG17-32-000.

Applicants: SR South Loving LLC.

Description: Notice of Self-Certification of Exempt Wholesale Generator Status of SR South Loving LLC.

Filed Date: 11/18/16.

Accession Number: 20161118-5042.

Comments Due: 5 p.m. ET 12/9/16.

Take notice that the Commission received the following electric rate filings:

Docket Numbers: ER10-1350-006.

Applicants: Entergy Services, Inc.

Description: Entergy Services, Inc. submits Refund Report.

Filed Date: 11/18/16.

Accession Number: 20161118-5070.

Comments Due: 5 p.m. ET 12/9/16.

Docket Numbers: ER10-2564-006; ER10-2289-006; ER10-2600-006.

Applicants: Central Hudson Gas & Electric Corporation, Tucson Electric Power Company, UNS Electric, Inc., UniSource Energy Development Company.

Description: Amendment and Third Supplement to December 31, 2015 Triennial Market Power Update for the Southwest Region of the Fortis, Inc. subsidiaries.

Filed Date: 11/18/16.

Accession Number: 20161118-5148.

Comments Due: 5 p.m. ET 12/9/16.

Docket Numbers: ER16-1973-001.

Applicants: Western Antelope Blue Sky Ranch B LLC.

Description: Compliance filing: Western Antelope Blue Sky Ranch B LLC MBR Tariff to be effective 6/22/2016.

Filed Date: 11/18/16.

Accession Number: 20161118-5047.

Comments Due: 5 p.m. ET 12/9/16.

Docket Numbers: ER16-2298-003.

Applicants: Duke Energy Kentucky, Inc.

Description: Tariff Amendment: DEK Errata to Supplemental Revised Filing RS No. 14 to be effective 10/1/2016.

Filed Date: 11/18/16.

Accession Number: 20161118-5127.

Comments Due: 5 p.m. ET 12/9/16.

Docket Numbers: ER16-2730-001.

Applicants: LSC Communications US, LLC.

Description: Tariff Amendment: LSCC MBRA App Supplement to be effective 10/1/2016.

Filed Date: 11/18/16.

Accession Number: 20161118-5105.

Comments Due: 5 p.m. ET 12/9/16.

Docket Numbers: ER17-157-001.

Applicants: Moapa Southern Paiute Solar, LLC.

Description: Tariff Amendment: Supplement to Application for Order Accepting Initial Market-Based Rate Tariff to be effective 10/22/2016.

Filed Date: 11/18/16.

Accession Number: 20161118-5119.

Comments Due: 5 p.m. ET 12/9/16.

Docket Numbers: ER17-263-001.

Applicants: PJM Interconnection, L.L.C.

Description: Tariff Amendment: Substitute Original Service Agreement No. 4573, Queue No. NQ139 to be effective 1/1/2017.

Filed Date: 11/17/16.

Accession Number: 20161117-5149.

Comments Due: 5 p.m. ET 12/8/16.

Docket Numbers: ER17-297-001.

Applicants: Ampex Energy, LLC.

Description: Tariff Amendment: Amend MBR Application to be effective 11/15/2016.

Filed Date: 11/17/16.

Accession Number: 20161117-5116.

Comments Due: 5 p.m. ET 12/8/16.

Docket Numbers: ER17-355-000.

Applicants: ITC Midwest LLC.

Description: Report Filing: Errata to Filing of CIAC Agreement with Northern States Power to be effective N/A.

Filed Date: 11/17/16.

Accession Number: 20161117-5134.

Comments Due: 5 p.m. ET 12/8/16.

Docket Numbers: ER17-381-000.

Applicants: PJM Interconnection, L.L.C.

Description: § 205(d) Rate Filing: Revisions to OATT Schedule 12—Appdx A re RTEP Approved by the Board in Oct 2016 to be effective 2/15/2017.

Filed Date: 11/17/16.

Accession Number: 20161117-5164.

Comments Due: 5 p.m. ET 12/8/16.

Docket Numbers: ER17-382-000.

Applicants: CED Ducor Solar 1, LLC.

Description: Baseline eTariff Filing: Market-Based Rates Tariff to be effective 11/19/2016.

Filed Date: 11/18/16.

Accession Number: 20161118-5067.

Comments Due: 5 p.m. ET 12/9/16.

Docket Numbers: ER17-383-000.

Applicants: CED Ducor Solar 2, LLC.

Description: Baseline eTariff Filing: Market-Based Rates Tariff to be effective 11/19/2016.

Filed Date: 11/18/16.

Accession Number: 20161118-5069.

Comments Due: 5 p.m. ET 12/9/16.

Docket Numbers: ER17-384-000.

Applicants: CED Ducor Solar 3, LLC.

Description: Baseline eTariff Filing: Market-Based Rates Tariff to be effective 11/19/2016.

Filed Date: 11/18/16.

Accession Number: 20161118-5071.

Comments Due: 5 p.m. ET 12/9/16.

Docket Numbers: ER17-385-000.

Applicants: PJM Interconnection, L.L.C.

Description: Tariff Cancellation: Notice of Cancellation of ICSA No. 3409 Queue Position #T107, X3-004 & Y2-019 to be effective 7/20/2016.

Filed Date: 11/18/16.

Accession Number: 20161118-5096.

Comments Due: 5 p.m. ET 12/9/16.

Docket Numbers: ER17-386-000.

Applicants: New York Independent System Operator, Inc.

Description: § 205(d) Rate Filing: NYISO tariff revision—ICAP Demand Curve Reset to be effective 1/17/2017.

Filed Date: 11/18/16.

Accession Number: 20161118-5098.

Comments Due: 5 p.m. ET 12/9/16.

Docket Numbers: ER17-387-000.

Applicants: Midcontinent Independent System Operator, Inc.

Description: § 205(d) Rate Filing: 2016-11-18 Revisions to Attachment FF-6 to address cost allocation gap to be effective 1/18/2017.

Filed Date: 11/18/16.

Accession Number: 20161118-5099.

Comments Due: 5 p.m. ET 12/9/16.

Docket Numbers: ER17-389-000.

Applicants: Midcontinent Independent System Operator, Inc.

Description: § 205(d) Rate Filing: 2016-11-18 SA 2872 Montana Dakota-Montana Dakota 1st Rev. GIA (J405) to be effective 11/19/2016.

Filed Date: 11/18/16.

Accession Number: 20161118-5115.

Comments Due: 5 p.m. ET 12/9/16.

Docket Numbers: ER17-390-000.

Applicants: Midcontinent Independent System Operator, Inc., ITC Midwest LLC.

Description: § 205(d) Rate Filing: 2016-11-18_SA 2728 MidAmerican-ITCM 2nd Rev. FSA (H021) to be effective 11/18/2016.

Filed Date: 11/18/16.

Accession Number: 20161118-5117.

Comments Due: 5 p.m. ET 12/9/16.

Take notice that the Commission received the following electric reliability filings:

Docket Numbers: RD17-1-000.

Applicants: North American Electric Reliability Corporation.

Description: Petition of the North American Electric Reliability Corporation for Retirement of Reliability Standard BAL-004-0.

Filed Date: 11/10/16.

Accession Number: 20161110-5240.

Comments Due: 5 p.m. ET 12/19/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2016.
Nathaniel J. Davis, Sr.,
Deputy Secretary.

[FR Doc. 2016-28323 Filed 11-23-16; 8:45 am]

BILLING CODE 6717-01-P